DEPARTMENT OF VETERANS AFFAIRS

Privacy Act of 1974; System of Records

AGENCY: Department of Veterans Affairs.

ACTION: Notice of amendment to an existing system of records.

SUMMARY: As required by the Privacy Act of 1974, 5 U.S.C. 552a(e)(4), notice is hereby given that the Department of Veterans Affairs (VA) proposes to modify its existing system of records “Loan Guaranty Home, Condominium and Manufactured Home Loan Applicants Records, Specially Adapted Housing Applicant Records and Vendee Loan Applicant Records—VA (55VA26)”.

DATES: Comments on the proposed modifications to the routine uses must be received no later than 30 days after date of publication in the Federal Register, on or before January 14, 2013. If no public comment is received during the period allowed for comments, the routine use will become effective January 14, 2013.

ADDRESSES: Written comments may be submitted through www.regulations.gov; by mail or hand-delivery to the Director, Regulations Management (02REG), Department of Veterans Affairs, 810 Vermont Ave. NW., Room 1068, Washington, DC 20420; or by fax to (202) 273-9026. Copies of comments received will be available for public inspection in the Office of Regulation Policy and Management, Room 10638, between the hours of 8:00 a.m. and 4:30 p.m., Monday through Friday (except holidays). Please call (202) 461-4902 for an appointment. (This is not a toll-free number.) In addition, during the comment period, comments may be viewed online through the Federal Docket Management System (FDMS) at www.regulations.gov.

FOR FURTHER INFORMATION CONTACT: Erica Lewis, Loan Specialist, Loan Guaranty Service, Department of Veterans Affairs, 810 Vermont Ave. NW., Washington, DC 20420, (202) 632-8823.

SUPPLEMENTARY INFORMATION: The Department is proposing to amend its system of records entitled “Loan Guaranty Home, Condominium and Manufactured Home Loan Applicants Records, Specially Adapted Housing Applicant Records and Vendee Loan Applicant Records—VA (55VA26)” by adding a new Routine Use 35 to permit VA to share information about a borrower's mortgage loan status with a Servicemember's Commanding Officer or designee who might be able to assist VA in either helping a borrower cure a default or avoid foreclosure or eviction.

VA has determined that release of information under the circumstances described above is a necessary and proper use of information in this system of records and that the specific routine use proposed for the transfer of this information is appropriate.

A copy of the revised system notice has been sent to the House of Representatives Committee on Government Reform and Oversight, the Senate Committee on Governmental Affairs, and the Office of Management and Budget (OMB) as required by 5 U.S.C. 552a(r) and guidelines issued by OMB (59 FR 37906, 3791618, July 25, 1994).

The proposed routine use will be added to the system of records entitled “Loan Guaranty Home, Condominium and Manufactured Home Loan Applicant Records, Specially Adapted Housing Applicant Records, and Vendee Loan Applicant Records-VA (55VA26)” as published at 40 FR 38095, August 26, 1975, and amended at 48 FR 49961, October 28, 1983; 51 FR 24781, July 8, 1986; 51 FR 28289, August 6, 1986; 52 FR 721, January 8, 1987; 53 FR 49818, December 9, 1988; 56 FR 2064, January 18, 1991; 56 FR 15666, April 17, 1991; 58 FR 50629, September 28, 1993; 62 FR 35545, July 1, 1997; and 67 FR 72721, December 6, 2002.

Approved: October 9, 2012.
John R. Gingrich,
Chief of Staff, Department of Veterans Affairs.

Notice of Amendment to System of Records

The system of records identified as “Loan Guaranty Home, Condominium and Manufactured Home Loan Applicants Records, Specially Adapted Housing Applicant Records and Vendee Loan Applicant Records—VA (55VA26)”, published at 40 FR 38095, August 26, 1975, and amended at 48 FR 49961, October 28, 1983; 51 FR 24781, July 8, 1986; 51 FR 28289, August 6, 1986; 52 FR 721, January 8, 1987; 53 FR 49818, December 9, 1988; 56 FR 2064, January 18, 1991; 56 FR 15666, April 17, 1991; 58 FR 50629, September 28, 1993; 62 FR 35545, July 1, 1997; and 67 FR 72721 December 6, 2002, is revised to add a new Routine Use Number 35 as follows:

55VA26

System name:

Loan Guaranty Home, Condominium and Manufactured Home Loan Applicants Records, Specially Adapted Housing Applicant Records and Vendee Loan Applicant Records—VA.

* * * * *

ROUTINE USES OF RECORDS MAINTAINED IN THE SYSTEM, INCLUDING CATEGORIES OF USERS AND THE PURPOSES OF SUCH USES:

* * * * *

35. Any information in this system may be disclosed to a servicemember's commanding officer or designee if VA determines that sharing this information is necessary in order to reach a servicemember who has otherwise not responded to VA to attempt to assist in curing a default or resolving a foreclosure or eviction of a VA-guaranteed or direct loan.

[FR Doc. 2012-30086 Filed 12-12-12; 8:45 am]

BILLING CODE 8320-01-P